DEPARTMENT OF TRANSPORTATION

Federal Aviation Administration

[Docket No. FAA-2021-0493]

Agency Information Collection Activities: Requests for Comments; Clearance of a Renewed Approval of Information Collection: Part 121 Operating Requirements: Domestic, Flag, and Supplemental Operations

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on June 8, 2021. The collection involves regulations that prescribe the requirements governing air carrier operations. The information collected is necessary to determine air operators' compliance with the minimum safety standards and the applicants' eligibility for air operations certification.

DATES: Written comments should be submitted by December 22, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sandra Ray by email at: Sandra.ray@faa.gov; phone: 412-329-3088.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0008.

Title: Part 121 Operating Requirements: Domestic, Flag, and Supplemental Operations.

Form Numbers: None.

Type of Review: Renewal of an information collection.

Background: The Federal Register Notice with a 60-day comment period soliciting comments on the following collection of information was published on June 8, 2021 (86 FR 30513). Under the authority of Title 49 CFR, section 44701, title 14 CFR prescribes the terms, conditions, and limitations as are necessary to ensure safety in air transportation. Title 14 CFR part 121 prescribes the requirements governing air carrier operations. The information collected is used to determine air operators' compliance with the minimum safety standards and the applicants' eligibility for air operations certification. Each operator which seeks to obtain, or is in possession of an air carrier operating certificate, must comply with the requirements of part 121 which include maintaining data which is used to determine if the air carrier is operating in accordance with minimum safety standards.

Respondents: 66 Part 121 Air Carriers.

Frequency: Information is collected on occasion.

Estimated Average Burden per Response: Varies per Response and Requirement type.

Estimated Total Annual Burden: 1,455,260 Hours.

Issued in Washington, DC, on November 17, 2021.
Sandra L. Ray,
Aviation Safety Inspector, AFS-260.

[FR Doc. 2021-25427 Filed 11-19-21; 8:45 am]

BILLING CODE 4910-13-P